DEPARTMENT OF COMMERCE

International Trade Administration

[A-533-883]

Glycine From India: Preliminary Results and Rescission, in Part, of Antidumping Duty Administrative Review; 2020-2021

AGENCY: Enforcement and Compliance, International Trade Administration, Department of Commerce.

SUMMARY: The U.S. Department of Commerce (Commerce) preliminarily finds that producers and/or exporters subject to this administrative review made sales of subject merchandise at less than normal value during the period of review June 1, 2020, through May 31, 2021. We invite interested parties to comment on these preliminary results.

DATES: Applicable July 7, 2022.

FOR FURTHER INFORMATION CONTACT: Emily Bradshaw or Yang Jin Chun, AD/CVD Operations, Office VI, Enforcement and Compliance, International Trade Administration, U.S. Department of Commerce, 1401 Constitution Avenue NW, Washington, DC 20230; telephone: (202) 482-3896 or (202) 482-5760, respectively.

SUPPLEMENTARY INFORMATION

Background

On June 21, 2019, Commerce published the antidumping duty order on glycine from India.¹ On August 3, 2021, Commerce published the notice of initiation of the administrative review of the antidumping duty order on glycine from India.² On February 16, 2022, Commerce extended the time limit for these preliminary results to June 30, 2022, in accordance with section 751(a)(3)(A) of the Tariff Act of 1930, as amended (the Act).³

¹ See Glycine from India and Japan: Amended Final Affirmative Antidumping Duty Determination and Antidumping Duty Orders, 84 FR 29170 (June 21, 2019) (Order).

² See Initiation of Antidumping and Countervailing Duty Administrative Reviews, 86 FR 41821, 41823 (August 3, 2021).

³ See Memorandum, “Glycine from India: Extension of Deadline for Preliminary Results of Antidumping Duty Administrative Review,” dated February 16, 2022.

Scope of the Order

The merchandise subject to the Order is glycine. For a complete description of the scope of the Order, see the Preliminary Decision Memorandum.⁴

⁴ See Memorandum, “Glycine from India: Decision Memorandum for Preliminary Results of Antidumping Duty Administrative Review; 2020-2021,” dated concurrently with, and hereby adopted by, this notice (Preliminary Decision Memorandum).

Methodology

Commerce is conducting this review in accordance with section 751(a)(1)(B) of the Act. Export price and constructed export price are calculated in accordance with section 772 of the Act. Normal value is calculated in accordance with section 773 of the Act. For a full description of the methodology underlying these preliminary results, see Preliminary Decision Memorandum. The Preliminary Decision Memorandum is a public document and is made available to the public via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx. A list of the topics discussed in the Preliminary Decision Memorandum is attached as an appendix to this notice.

Rescission of Administrative Review, in Part

Pursuant to 19 CFR 351.213(d)(1), Commerce will rescind an administrative review, in whole or in part, if the parties that requested a review withdraw the request within 90 days of the date of publication of the notice of initiation. On November 1, 2021, GEO Specialty Chemicals, Inc. withdrew its requests for review with respect to GEM Corpochem Private Limited, Indiana Chem-Port, J.R. Corporation, Mulji Mehta Enterprises, Mulji Mehta Pharma, Rexisize Rasayan Industries, and Studio Disrupt.⁵ Because the requests for review were timely withdrawn and no other parties requested a review of these companies, in accordance with 19 CFR 351.213(d)(1), Commerce is partially rescinding this review of the Order for these seven companies.

⁵ See GEO Specialty Chemicals, Inc.'s Letter, “Partial Withdrawal of Request for Administrative Review,” dated November 1, 2021.

Application of Facts Available With Adverse Inferences

Pursuant to section 776(a) of the Act, Commerce is preliminarily relying upon facts otherwise available to determine a weighted-average dumping margin for Kumar Industries/Rudraa International (collectively Kumar) ⁶ because: (1) necessary information is not available on the record; and (2) Kumar withheld requested information, failed to provide such information by the established deadlines, and significantly impeded this proceeding. Further, Commerce preliminarily determines that an adverse inference is warranted in selecting from among the facts otherwise available pursuant to section 776(b) of the Act because Kumar failed to cooperate to the best of its ability. For further information, see “Application of Facts Available and Adverse Inferences” in the Preliminary Decision Memorandum.

⁶ Rudraa International is one of the companies for which the review request was withdrawn. Id. In the last completed administrative review, Commerce collapsed Kumar Industries and Rudraa International. See Glycine from India: Final Results of Antidumping Duty Administrative Review; 2018-2020, 86 FR 62508, 62509 n.4 (November 10, 2021). For these preliminary results, we continue to treat these two companies as a collapsed single entity. For this reason, we are not rescinding this administrative review for Rudraa International individually.

Rate for Non-Selected Respondents

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for non-examined companies in an administrative review. Under section 735(c)(5)(A) of the Act, the all-others rate is normally “an amount equal to the weighted average of the estimated weighted average dumping margins established for exporters and producers individually investigated, excluding any zero and de minimis margins, and any margins determined entirely {on the basis of facts available}.”

In this review, we have preliminarily calculated a weighted-average dumping margin for the mandatory respondent Avid Organics Private Limited that is not zero, de minimis, or based entirely on facts available (i.e., 20.72 percent). Accordingly, we have preliminarily assigned this rate to Paras Intermediates Private Ltd., the sole respondent not selected for individual examination in this administrative review .⁷

⁷ See Preliminary Decision Memorandum at 7.

Preliminary Results of Review

We preliminarily determine that the following weighted-average dumping margins exist for the period June 1, 2020, through May 31, 2021.

Producer/exporter | Weighted- average dumping margin (percent)
Avid Organics Private Limited | 20.72
Kumar Industries/Rudraa International | 31.76
Paras Intermediates Private Ltd. | 20.72

Disclosure and Public Comment

We intend to disclose the calculations performed to parties in this administrative review within five days after public announcement of the preliminary results in accordance with 19 CFR 351.224(b).

Pursuant to 19 CFR 351.309(c)(1)(ii), interested parties may submit case briefs no later than 30 days after the date of publication of this notice. Rebuttal briefs, limited to issues raised in the case briefs, may be filed not later than seven days after the date for filing case briefs.⁸ Commerce has modified certain of its requirements for serving documents containing business proprietary information until further notice.⁹ Parties who submit case or rebuttal briefs in this proceeding are encouraged to submit with each argument: (1) a statement of the issue; (2) a brief summary of the argument; and (3) a table of authorities.¹⁰

⁸ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

⁹ See Temporary Rule Modifying AD/CVD Service Requirements Due to COVID-19; Extension of Effective Period, 85 FR 41363 (July 10, 2020).

¹⁰ See 19 CFR 351.309(c)(2) and (d)(2); see also 19 CFR 351.303 (for general filing requirements).

Pursuant to 19 CFR 351.310(c), interested parties who wish to request a hearing must submit a written request to the Assistant Secretary for Enforcement and Compliance, filed electronically via ACCESS. Requests should contain: (1) the party's name, address and telephone number; (2) the number of participants; and (3) a list of issues to be discussed. Issues raised in the hearing will be limited to those raised in case and rebuttal briefs. If a request for a hearing is made, Commerce intends to hold the hearing at a time and date to be determined. An electronically filed hearing request must be received successfully in its entirety by Commerce's electronic records system, ACCESS, by 5:00 p.m. Eastern Time within 30 days after the date of publication of this notice.¹¹

¹¹ See 19 CFR 351.310(c); see also 19 CFR 351.303 (for general filing requirements).

Commerce intends to issue the final results of this administrative review, including the results of its analysis of the issues raised in any written briefs, no later than 120 days after the date of publication of this notice in the Federal Register, unless extended, pursuant to section 751(a)(3)(A) of the Act.

Assessment Rates

Upon completion of the administrative review, Commerce shall determine and U.S. Customs and Border Protection (CBP) shall assess antidumping duties on all appropriate entries covered by this review. For the companies for which we have rescinded this review, we intend to instruct CBP to assess antidumping duties on all appropriate entries at a rate equal to the cash deposit rate of estimated antidumping duties required at the time of entry, or withdrawal from warehouse, for consumption, during the period of review, in accordance with 19 CFR 351.212(c)(1)(i). Commerce intends to issue assessment instructions to CBP for the rescinded companies no earlier than 35 days after the date of publication of the preliminary results of this administrative review in the Federal Register.

If the weighted-average dumping margin for Avid Organics Private Limited or Kumar is not zero or de minimis in the final results of this review, we will calculate, for each company, an importer-specific assessment rate on the basis of the ratio of the total amount of dumping calculated for each importer's examined sales and the total entered value of such sales in accordance with 19 CFR 351.212(b)(1).¹² If any of these companies' weighted-average dumping margin is zero or de minimis in the final results of review, or if an importer-specific assessment rate for one of these companies is zero or de minimis, Commerce will instruct CBP to liquidate appropriate entries without regard to antidumping duties.¹³ For entries of subject merchandise during the period of review produced by any of these companies for which it did not know its merchandise was destined for the United States, we will instruct CBP to liquidate unreviewed entries.¹⁴

¹² See Antidumping Proceedings: Calculation of the Weighted-Average Dumping Margin and Assessment Rate in Certain Antidumping Duty Proceedings: Final Modification, 77 FR 8101, 8103 (February 14, 2012).

¹³ Id., 77 FR at 8102-03; see also 19 CFR 351.106(c)(2).

¹⁴ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of glycine from India entered, or withdrawn from warehouse, for consumption on or after the date of publication as provided by section 751(a)(2)(C) of the Act: (1) the cash deposit rate for companies subject to this review will be equal to the company-specific weighted-average dumping margin established in the final results of the review; (2) for merchandise exported by a company not covered in this review but covered in a prior segment of the proceeding, the cash deposit rate will continue to be the company-specific rate published in the completed segment for the most recent period; (3) if the exporter is not a firm covered in this review, a prior review, or the original investigation but the producer is, the cash deposit rate will be the rate established in the completed segment for the most recent period for the producer of the merchandise; (4) the cash deposit rate for all other producers or exporters will be 7.23 percent, the all-others rate established in the less-than-fair-value investigation, adjusted for the export-subsidy rate in the companion countervailing duty investigation.¹⁵ These cash deposit requirements, when imposed, shall remain in effect until further notice.

¹⁵ See Order, 84 FR at 29171.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing this notice in accordance with sections 751(a)(1) and 777(i)(1) of the Act, and sections 19 CFR 351.213(h)(2) and 19 CFR 351.221(b)(4).

Dated: June 30, 2022.
Ryan Majerus,
Deputy Assistant Secretary for Policy and Negotiations.

Appendix

List of Topics Discussed in the Preliminary Decision Memorandum

I. Summary

II. Background

III. Scope of the Order

IV. Application of Facts Available and Adverse Inferences

V. Rate for Non-Selected Respondent

VI. Discussion of the Methodology

VII. Currency Conversion

VIII. Recommendation

[FR Doc. 2022-14482 Filed 7-6-22; 8:45 am]

BILLING CODE 3510-DS-P